DEPARTMENT OF ENERGY

Office of Science; Advanced Scientific Computing Advisory Committee

AGENCY: Department of Energy.

ACTION: Notice of open meeting.

SUMMARY: This notice announces the first meeting of the Advanced Scientific Computing Advisory Committee (ASCAC). Federal Advisory Committee Act (Public Law 92-463, 86 Stat. 770) requires that public notice of these meetings be announced in the Federal Register.

DATES: Tuesday, October 31, 2000, 8:30 a.m. to 5:00 p.m.; Wednesday, November 1, 2000, 8:30 a.m. to 4:15 p.m.

ADDRESSES: Key Bridge Marriott, 1401 Lee Highway, Arlington, VA 22209

FOR FURTHER INFORMATION CONTACT: Melea Baker, Office of Advanced Scientific Computing Research; U.S. Department of Energy; 19901 Germantown Road; Germantown, MD 20874-1290; Telephone (301) 903-7486 (E-mail: Melea.Baker@science.doe.gov).

SUPPLEMENTARY INFORMATION:

Purpose of the Meeting

The purpose of this meeting is to provide advice and guidance with respect to the advanced scientific computing research program.

Tentative Agenda: Agenda will include discussions of the following:

Tuesday, October 31, 2000

• Introduction

• Briefings on Advisory Committee Operations

• Remarks from the Director, Office of Science

• Remarks from Associate Director, Advanced Scientific Computing Research

• Presentations of Office of Science Programs

• Public Comment

Wednesday, November 1, 2000

• Overview of Mathematical, Information, and Computational Sciences Division

• Presentations of the Mathematical, Information, and Computational Sciences Programs

• Overview of Scientific Discovery Through Advanced Computing

• Advisory Committee Open Discussion of Issues

• Review Calendar for CY2001

• Public Comment

Public Participation

The meeting is open to the public. If you would like to file a written statement with the Committee, you may do so either before or after the meeting. If you would like to make oral statements regarding any of the items on the agenda, you should contact Melea Baker via FAX at 301-903-4846 or via E-mail (Melea.Baker@science.doe.gov). You must make your request for an oral statement at least 5 business days prior to the meeting. Reasonable provision will be made to include the scheduled oral statements on the agenda. The Chairperson of the Committee will conduct the meeting to facilitate the orderly conduct of business. Public comment will follow the 10-minute rule.

Minutes

The minutes of this meeting will be available for public review and copying within 30 days at the Freedom of Information Public Reading Room; 1E-190, Forrestal Building; 1000 Independence Avenue, SW; Washington, DC 20585; between 9:00 a.m. and 4:00 p.m., Monday through Friday, except holidays.

Issued in Washington, D.C. on September 28, 2000.
Rachel M. Samuel,
Deputy Advisory Committee, Management Officer.

[FR Doc. 00-25455 Filed 10-3-00; 8:45 am]

BILLING CODE 6450-01-U